ENVIRONMENTAL PROTECTION AGENCY

[FRL-7215-2]

EPA Science Advisory Board; Notification of Public Advisory Committee Meetings; Environmental Health Committee's Trichloroethylene (TCE) Health Risk Assessment Synthesis and Characterization Review Panel

Pursuant to the Federal Advisory Committee Act, Public Law 92-463, notice is hereby given of three meetings of the Environmental Health Committee's Trichloroethylene (TCE) Health Risk Assessment Synthesis and Characterization Review Panel (TCE Review Panel) of the US EPA Science Advisory Board (SAB). The Panel will meet on the dates and times noted below. All times noted are Eastern Time. All meetings are open to the public, however, seating is limited and available on a first come basis. For teleconference meetings, available lines may also be limited. Important Notice: Documents that are the subject of SAB reviews are normally available from the originating EPA office and are not available from the SAB Office—information concerning availability of documents from the relevant Program Office is included below.

Background: The background for this review and the charge to the panel were published in the Federal Register (66 FR 54768-54769) on October 30, 2001. The notice also included a call for nominations for members of the panel in certain technical expertise areas needed to address the charge and described the process to be used in forming the panel.

1. Environmental Health Committee's Trichloroethylene (TCE) Health Risk Assessment Synthesis and Characterization Review Panel—June 5, 2002 Teleconference

The TCE Review Panel will meet on June 5, 2002 via teleconference from 1:00 pm to 3:00 pm Eastern Time. This teleconference meeting will be hosted out of Conference Room 6013, USEPA, Ariel Rios Building North, 1200 Pennsylvania Avenue, NW, Washington, DC 20004. The meeting is open to the public, but, due to limited space, seating will be on a first-come basis. The public may also attend via telephone, however, lines may be limited. For further information concerning the meeting or how to obtain the phone number, please contact the individuals listed at the end of this FR notice.

Purpose of the Meeting—The purpose of this public teleconference meeting is to: (a) Discuss the charge and the adequacy of the review materials provided to the TCE Review Panel; (b) to clarify any questions and issues relating to the charge and the review materials; (c) to discuss specific charge assignments to the TCE Review Panelists; and (d) to clarify specific points of interest raised by the Panelists in preparation for the face-to-face meeting to be held on June 18 and June 19, 2002. This teleconference meeting of the TCE Review Panel will provide focus on the charge and issues prior to the June 18-19, 2002 meeting of the Panel.

See below for availability of review materials, the charge to the review panel, and contact information.

2. Environmental Health Committee's Trichloroethylne (TCE) Health Risk Assessment Synthesis and Characterization Review Panel—June 18 and 19, 2002 Meeting

The TCE Review Panel of the Science Advisory Board (SAB) will conduct a public meeting on June 18 and June 19, 2002. The meeting will begin on June 18, 2002 at 9:00 am and adjourn no later than 5:30 pm that day. On June 19, 2002, the meeting may begin at 9:00 am and adjourn no later than 1:00 pm. The meeting will take place at RESOLVE, 1255 23rd Street, Suite 275, NW Washington, DC 20037. For further information concerning the meeting, please contact the individuals listed at the end of this FR notice.

The need for subsequent meetings of the Review Panel will be discussed at this meeting and schedules of any future meetings to complete review of this topic will be discussed. However, a contingency date of July 18, 2002 from 1:00 pm to 3:00 pm Eastern Standard Time has been reserved for a conference call. Information concerning any future public meetings will appear in Federal Register notices as appropriate.

Purpose of the Meeting—The purpose of this meeting is to conduct a review of an Agency draft document, Trichlorethylene Health Risk Assessment: Synthesis and Characterization, Draft Report, Prepared for the U.S. Environmental Protection Agency, Office of Research and Development, EPA/600/P-01/002A, August 2001 External Review Draft. In particular, the Review Panel will: (1) Engage in dialogue with appropriate officials from the Agency who are responsible for its preparation; (2) begin to prepare responses to the charge questions; (3) receive public comments as appropriate; and (4) plan and schedule subsequent meetings (if needed) to complete this review.

See below for availability of review materials, the charge to the review panel, and contact information for both meetings.

3. Environmental Health Committee Review of the Trichloroethylene (TCE) Health Risk Assessment Synthesis and Characterization Draft Document—July 18, 2002 Teleconference

Purpose of the Meeting—Depending on progress achieved in developing its report from the June 18-19, 2002 meeting, the TCE Review Panel of the Executive Committee of the Science Advisory Board (SAB) may convene in a public teleconference on July 18, 2002 from 1 p.m. to 3 p.m. Eastern Standard Time as a contingency date to conduct a public meeting to reach closure on a draft report. The purpose of reserving this date is to provide an opportunity for the Review Panel to reach closure on a consensus draft in a public forum. This will be coordinated through a teleconference connection hosted out of Conference Room 6013, US EPA, Ariel Rios Building North, 1200 Pennsylvania Avenue, NW., Washington, DC 20004. The meeting is open to the public, but due to limited space, seating will be on a first-come basis—the public may also attend via telephone, however, lines may be limited. For further information concerning the meeting or how to obtain the phone number, please contact the individuals listed at the end of this FR notice.

For Further Information about Public Participation in the meetings identified above must contact Dr. Angela Nugent, Designated Federal Officer, TCE Review Panel, USEPA Science Advisory Board (1400A), Suite 6450BB, 1200 Pennsylvania Avenue, NW, Washington, DC 20460; telephone/voice mail at (202) 564-4562; fax at (202) 501-0323; or via e-mail at nugent.angela@epa.gov. Requests for oral comments must be in writing (e-mail, fax or mail) and received by Dr. Nugent no later than noon Eastern Time on the following dates: for the June 5 teleconference call, requests must be received by May 29; for the June 18-19 face to face meeting, requests must be received by June 4; and for the July 18 teleconference call, requests must be received by July 11.

The SAB will have a brief period (no more than 30 minutes) available during the Teleconference meetings for applicable public comment. At the Teleconferences, the oral public comment period will be limited to 30 minutes divided among the speakers who register. At the June 18-19th face to face meeting, the oral public comment will be limited to ninety minutes divided among the speakers who register. Registration is on a first come basis. Speakers who have been granted time on the agenda may not yield their time to other speakers. Speakers who are unable to register in time may provide their comments in writing.

Members of the public desiring additional information about the meeting locations or the call-in number for the teleconference before June 30, 2002, must contact Ms. Diana Pozun, Program Specialist EPA Science Advisory Board (1400A), Suite 6450N, U.S. EPA, 1200 Pennsylvania Avenue, NW, Washington, DC 20460; telephone/voice mail at (202) 564-4544; fax at (202) 501-0323; or via e-mail at pozun.diana@epa.gov.

A copy of the draft agenda for each meeting will be posted on the SAB Web site (www.epa.gov/sab) (under the AGENDAS subheading) approximately 10 days before that meeting.

Availability of Review Material—There is one primary document that is the subject of the review. The review document is available electronically at the following site http://oaspub.epa.gov/eims/eimscomm.getfile?p—download—id=4580. For questions and information pertaining to the review documents, please contact Dr. V. James Cogliano (Mail Code 8623D), U.S. Environmental Protection Agency, USEPA Headquarters, Ariel Rios Building, 1200 Pennsylvania Ave., NW, Washington, DC 20460; tel. (202) 564-3269, Fax (202) 565-0079, e-mail: cogliano.jim@epa.gov. Dr. Cogliano will refer you to the appropriate contact for the particular issue of interest. The review document which is the subject of this review is cited as follows: Trichloroethylene Health Risk Assessment: Synthesis and Characterization, Draft Report, Prepared for the U.S. Environmental Protection Agency, Office of Research and Development, EPA/600/P-01/002A August 2001 External Review Draft.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than 3 minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Access—Individuals requiring special accommodation at this meeting, including wheelchair access to the conference room, should contact Dr. Nugent at least 5 business days prior to the meeting so that appropriate arrangements can be made.

General Information—Additional information concerning the Science Advisory Board, its structure, function, and composition, may be found on the SAB Website (http://www.epa.gov/sab) and in the Science Advisory Board FY2001 Annual Staff Report which is available from the SAB Publications Staff at (202) 564-4533 or via fax at (202) 501-0256.

Dated: May 16, 2002.
A. Robert Flaak,
Acting Staff Director, EPA Science Advisory Board.

[FR Doc. 02-12823 Filed 5-20-02; 8:45 am]

BILLING CODE 6560-50-P